CORPORATION FOR NATIONAL AND COMMUNITY SERVICE

Submission for OMB Emergency Review

AGENCY: Corporation for National and Community Service.

ACTION: Notice.

SUMMARY: The Corporation for National and Community Service (CNCS), submitted the following information collection request (ICR) to the Office of Management and Budget (OMB) for review and clearance in accordance with the Paperwork Reduction Act of 1995, (PRA 95) (44 U.S.C. Chapter 35). CNCS requested that OMB review and approve its emergency request by February 22, 2013, for a period of six months. A copy of this ICR, with applicable supporting documentation, may be obtained by contacting Amy Borgstrom, (202) 606-6930 or by email at aborgstrom@cns.gov.

Unfortunately, since CNCS requested OMB's approval of this emergency request by February 22, 2013, there will be not enough time for the public to provide comments through this Federal Register Notice before the approval date. Therefore, there will be no comment period for this request.

Type of Review: Emergency Request.

Agency: Corporation for National and Community Service.

Title: AmeriCorps Partnership Application Instructions.

OMB Number: TBD.

Agency Number: None.

Affected Public: Nonprofit organizations and congregations.

Total Respondents: 50.

Frequency: One time.

Average Time per Response: 40 hours.

Estimated Total Burden Hours: 2000 hours.

Total Burden Cost (capital/startup): None.

Total Burden Cost (operating/maintenance): None.

Description: CNCS has been working closely with the Department of Education over the past several months to develop a strategic partnership that leverages strengths of both agencies to address one of our nation's most critical education needs, helping students in the lowest-achieving schools improve their academic outcomes. This proposed partnership will place AmeriCorps members in the nation's lowest performing schools starting at the beginning of this school year. It capitalizes on the strengths of the AmeriCorps model, placing members where they are most needed, while making additional human resources available to districts that are implementing the Department of Education's School Improvement Grants.

If normal clearance procedures are followed, CNCS and the Department of Education will lose the opportunity to collaborate on these partnerships, as funds must be obligated by September 30, 2013. In addition, we want to ensure that we allow enough time for applicants to submit quality applications and for the agencies to conduct a thorough review.

We are particularly interested in making grant awards in time for the Education program to be operational at the start of the school year (August/September 2013). If we begin the standard OMB clearance procedure now, we will not be able to meet this goal.

Rosa Moreno-Mahoney,
Deputy Director, AmeriCorps State and National.

[FR Doc. 2013-03467 Filed 2-14-13; 8:45 am]

BILLING CODE 6050-$$-P